CONSUMER FINANCIAL PROTECTION BUREAU

[Docket No. CFPB-2023-0043]

Agency Information Collection Activities: Comment Request

AGENCY: Consumer Financial Protection Bureau.

ACTION: Notice and request for comment.

SUMMARY: In accordance with the Paperwork Reduction Act of 1995 (PRA), the Consumer Financial Protection Bureau (CFPB) requests the extension of the Office of Management and Budget's (OMB's) approval for an existing information collection titled “Real Estate Settlement Procedures Act (Regulation X)” approved under OMB Number 3170-0016.

DATES: Written comments are encouraged and must be received on or before September 29, 2023 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: Real Estate Settlement Procedures Act (Regulation X).

OMB Control Number: 3170-0016.

Type of Review: Extension without change of a currently approved collection.

Affected Public: Private sector: business or other for-profits, not-for-profit institutions.

Estimated Number of Respondents: 12,506.

Estimated Total Annual Burden Hours: 1,087,981.

Abstract: Regulation X ¹ implements the Real Estate Settlement Procedures Act (RESPA).² Regulation X contains information collections in the form of various disclosure and recordkeeping requirements. The disclosures in this collection are required by the statute and implementing regulations. Consumers use the disclosures required by RESPA and Regulation X to inform their choice of settlement service providers, review the final terms of a settlement, understand whom to contact about questions concerning their mortgage loan, and identify/protect themselves against inaccurate or questionable loan servicing practices.

¹ 12 CFR parts 1024.1-.41.

² 12 U.S.C. 2601 et seq.

Regulation X requires these information collections. However, to the extent that compliance with requirements in Regulation Z ³ provides an exemption from compliance with similar requirements in Regulation X, any relevant information collection burden is accounted for in OMB Control Number 3170-0015.

³ 12 CFR 1026.

Request for Comments: The CFPB published a 60-day Federal Register notice on February 8, 2023, (88 FR 8262) under Docket Number: CFPB-2023-0013. The CFPB is publishing this notice and soliciting comments on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2023-18760 Filed 8-29-23; 8:45 am]

BILLING CODE 4810-AM-P